FEDERAL ELECTION COMMISSION

Sunshine Act Meeting

FEDERAL REGISTER CITATION NOTICE OF PREVIOUS ANNOUNCEMENT: 82 FR 48810.

PREVIOUSLY ANNOUNCED TIME AND DATE OF THE MEETING: Tuesday, October 24, 2017 at 11:15 a.m. and its Continuation at the Conclusion of the Open Meeting on October 26, 2017.

CHANGES IN THE MEETING: This meeting was held on Tuesday, October 24 at 10:30 a.m. and continued on Tuesday, November 7, 2017 at 10:00 a.m.

* * * * *

CONTACT FOR MORE INFORMATION: Judith Ingram, Press Officer, Telephone: (202) 694-1220.

Laura E. Sinram,
Deputy Secretary of the Commission.

[FR Doc. 2017-24680 Filed 11-9-17; 11:15 am]

BILLING CODE 6715-01-P